DEPARTMENT OF ENERGY

Federal Energy Regulatory Commission

[Project No. 12714-001]

H2O Providers, L.L.C.; Notice of Intent To File License Application, Filing of Pre-Application Document, and Approving Use of the Traditional Licensing Process

August 20, 2009.

a. Type of Filing: Notice of Intent to File License Application and Request to Use the Traditional Licensing Process.

b. Project No.: 12714-001

c. Dated Filed: July 17, 2009

d. Submitted by: H2O Providers, L.L.C.

e. Name of Project: South Slope Pumped Storage Project

f. Location: On Brush Hollow Creek of the Arkansas River near Penrose in Fremont County, Colorado. The final transmission line corridor is still under evaluation, but portions may occupy federal lands administered by the U.S. Department of the Army.

g. Filed Pursuant to: Federal Power Act, 16 U.S.C. 808(b)(1) and 18 CFR 5.5 of the Commission's regulations.

h. Potential Applicant Contact: Mark Morley, H2O Providers, L.L.C., 20 Boulder Crescent, Second Floor, Colorado Springs, CO 80903; or e-mail at KerryP@morleydevelopment.com.

i. FERC Contact: Patti Leppert at (202) 502-6034; or e-mail at patricia.leppert@ferc.gov.

j. H2O Providers, L.L.C. reduced the scope of its original project, formally referred to as the Phantom Canyon Pumped Storage Project, to eliminate potential project-related environmental impacts. On July 17, 2009, H2O Providers, L.L.C. filed its request to use the Traditional Licensing Process and provided public notice of its request. In a letter dated August 18, 2009, the Director, Division of Hydropower Licensing, approved H2O Providers, L.L.C.'s request to use the Traditional Licensing Process.

k. With this notice, we are initiating informal consultation with: (a) The U.S. Fish and Wildlife Service and NOAA Fisheries under section 7 of the Endangered Species Act and the joint agency regulations thereunder at 50 CFR, Part 402; (b) NOAA Fisheries under section 305(b) of the Magnuson-Stevens Fishery Conservation and Management Act and implementing regulations at 50 CFR 600.920; and (c) the Colorado State Historic Preservation Officer, as required by section 106 of the National Historic Preservation Act, and the implementing regulations of the Advisory Council on Historic Preservation at 36 CFR 800.2.

l. With this notice, we are designating H2O Providers, L.L.C. as the Commission's non-federal representative for carrying out informal consultation, pursuant to section 7 of the Endangered Species Act, section 305 of the Magnuson-Stevens Fishery Conservation and Management Act, and section 106 of the National Historic Preservation Act.

m. H2O Providers, L.L.C. filed a Pre-Application Document (PAD, including a proposed process plan and schedule) with the Commission, pursuant to 18 CFR 5.5 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

o. Register online at http://www.ferc.gov/docs-filing/esubscription.asp to be notified via e-mail of new filing and issuances related to this or other pending projects. For assistance, contact FERC Online Support.

Kimberly D. Bose,
Secretary.

[FR Doc. E9-20643 Filed 8-26-09; 8:45 am]

BILLING CODE 6717-01-P